DEPARTMENT OF COMMERCE

National Oceanic and Atmospheric Administration

50 CFR Part 226

RIN 0648-AV74

Endangered and Threatened Species; Critical Habitat for the Endangered Distinct Population Segment of Smalltooth Sawfish

AGENCY: National Marine Fisheries Service (NMFS), National Oceanic and Atmospheric Administration (NOAA), Commerce.

ACTION: Proposed rule; reopening of public comment period.

SUMMARY: On November 20, 2008, NMFS proposed to designate critical habitat for the endangered U.S. distinct population segment (DPS) of smalltooth sawfish. As part of that proposal, NMFS provided a 60-day public comment period, ending on January 20, 2009. Additionally, NMFS held two public hearings in Cape Coral and Naples, FL in January 2009. NMFS has received requests for an extension of the public comment period. In response to these requests, NMFS is reopening the public comment period for the proposed action.

DATES: Written comments on this proposed rule must be received by 5 p.m. EST on February 13, 2009. Comments received between the close of the first comment period on January 20, 2009, and the reopening of the comment period on January 29, 2009 will be considered.

ADDRESSES: You may submit comments, identified by the Regulatory Information Number (RIN) 0648-AV74, by any of the following methods:

Mail: Assistant Regional Administrator, Protected Resources Division, NMFS, Southeast Regional Office, 263 13th Avenue South, St. Petersburg, FL 33701.

Facsimile (fax) to: 727-824-5309 Attention Shelley Norton.

Electronic Submissions: Submit all electronic comments to www.regulations.gov by clicking on “Search for Dockets” at the top of the screen, then entering the RIN in the “RIN” field and clicking the “Submit” tab.

Instructions: All comments received are considered part of the public record and will generally be posted to http://www.regulations.gov. All Personal Identifying Information (i.e., name, address, etc.) voluntarily submitted may be publicly accessible. Do not submit Confidential Business Information or otherwise sensitive or protected information. NMFS will accept anonymous comments. Please provide electronic attachments using Microsoft Word, Excel, WordPerfect, or Adobe PDF file formats only.

FOR FURTHER INFORMATION CONTACT: Shelley Norton, NMFS, Southeast Regional Office, at 727-824-5312; or Lisa Manning, NMFS, Office of Protected Resources, at 301-713-1401.

SUPPLEMENTARY INFORMATION:

Background

On November 20, 2008, we published a proposed rule (73 FR 70290) to designate critical habitat for the endangered U.S. DPS of smalltooth sawfish. We held two public hearings on the proposed designation, one in Naples, FL on January 5, 2009, and one in Cape Coral, FL on January 14, 2009. Several requests have been received to reopen the public comment period for the proposed listing. The public comment period for the proposed listing closed on January 20, 2009. NMFS is reopening the public comment period until February 13, 2009, to receive additional local and public information and comments that may be relevant to our consideration of this rulemaking. Public comments received between the close of the first comment period on January 20, 2009, and the reopening of the comment period January 29, 2009 will also be considered timely.

Authority: 16 U.S.C. 1531 et seq.

Dated: January 23, 2009.
James H. Lecky,
Director, Office of Protected Resources, National Marine Fisheries Service.

[FR Doc. E9-1956 Filed 1-28-09; 8:45 am]

BILLING CODE 3510-22-S